DEPARTMENT OF STATE

[Public Notice 9415]

Notice of a Public Meeting

The Department of State will conduct an open meeting at 10:00 a.m. on Wednesday, February 10, 2016, in the Oklahoma Room of the U.S. Department of Transportation Headquarters, 1200 New Jersey Ave. SE., Washington, DC 20590. The primary purpose of the meeting is to prepare for the third Session of the International Maritime Organization (IMO) Sub-Committee on Pollution Prevention and Response (PPR 3) to be held at the IMO Headquarters, United Kingdom, from February 15-19, 2016.

The agenda items to be considered include:

—Decisions of other IMO bodies

—Safety and pollution hazards of chemicals and preparation of consequential amendments to the IBC Code

—Review of MARPOL Annex II requirements that have an impact on cargo residues and tank washings of high viscosity and persistent floating products

—Code for the transport and handling of limited amounts of hazardous and noxious liquid substances in bulk on offshore support vessels

—Revised guidance on ballast water sampling and analysis

—Production of a manual entitled “Ballast Water Management—How to do it”

—Consideration of the impact on the Arctic of emissions of Black Carbon from international shipping

—Development of standards for shipboard gasification waste to energy systems and associated amendments to regulation 16 of MARPOL Annex VI

—Amendments to bunker delivery note to permit the supply of fuel oil not in compliance with regulation 14 of MARPOL Annex VI

—Guidelines for onboard sampling and verification of the sulphur content of the fuel oil used on ships

—Guidelines for the discharge of exhaust gas recirculation bleed-off water

—Improved and new technologies approved for ballast water management systems and reduction of atmospheric pollution

—Revised section II of the Manual on oil pollution contingency planning

—Guide on oil spill response in ice and snow conditions

—Updated IMO Dispersant Guidelines

—Updated OPRC Model training courses

—Unified interpretation to provisions of IMO environment-related Conventions

—Biennial agenda and provisional agenda for PPR 4

—Election of Chairman and Vice-Chairman for 2016

—Report to the Marine Environment Protection Committee

Members of the public may attend this meeting up to the seating capacity of the room. They may also contact the meeting coordinator to request a call-in number, in order to ensure adequate teleconference capacity, or to submit written comments and related material ahead of time. To facilitate the building security process, and to request reasonable accommodation, those who plan to attend should contact the meeting coordinator, Ms. Regina Bergner, by email at regina.r.bergner@uscg.mil, by phone at 202-372-1431, or by fax at (202) 372-8383, not later than February 5, 2016. Requests made after February 5, 2016, might not be able to be accommodated.

Please note that in the case of inclement weather, the meeting will not be rescheduled. Refer to the Office of Personnel Management Web site for the operational status of federal agencies (https://www.opm.gov/policy-data-oversight/snow-dismissal-procedures/current-status/). In the case of a delayed opening, the meeting will be held as scheduled. The public meeting will be cancelled if federal agencies are closed. Please note that due to security considerations, two valid, government-issued photo identifications must be presented to gain entrance to the building.

Directions to DOT Headquarters may be found at: http://www.dot.gov/directions. Additional information regarding this and other public meetings related to the IMO may be found at: www.uscg.mil/imo.

Dated: January 15, 2016.
Jonathan W. Burby,
Coast Guard Liaison Officer, Office of Ocean and Polar Affairs, Department of State.

[FR Doc. 2016-01272 Filed 1-21-16; 8:45 am]

BILLING CODE 4710-09-P